NUCLEAR REGULATORY COMMISSION

Advisory Committee on the Medical Uses of Isotopes: Call for Nominations

AGENCY: U.S. Nuclear Regulatory Commission.

ACTION: Call for Nominations.

SUMMARY: The U.S. Nuclear Regulatory Commission (NRC) is advertising for nominations for the position of nuclear pharmacist on the Advisory Committee on the Medical Uses of Isotopes (ACMUI).

DATES: Nominations are due on or before May 29, 2007.

Nomination Process: Submit an electronic copy of resume or curriculum vitae to Ms. Ashley M. Tull, amt1@nrc.gov. Please ensure that resume or curriculum vitae includes the following information, if applicable: education, certification; professional association membership and committee membership activities; duties and responsibilities in current and previous clinical, research, and/or academic position(s), including traditional nuclear medicine, preparing and dispensing radiopharmaceuticals, and shipping and receiving radioactive material.

FOR FURTHER INFORMATION CONTACT: Ashley M. Tull, U.S. Nuclear Regulatory Commission, Office of Federal and State Materials and Environmental Management Programs, Mail Stop T8-F3, Washington, DC 20555; (301) 415-5294; amt1@nrc.gov.

SUPPLEMENTARY INFORMATION: The ACMUI advises NRC on policy and technical issues that arise in the regulation of the medical use of byproduct material. Responsibilities include providing comments on changes to NRC rules, regulations, and guidance documents; evaluating certain non-routine uses of byproduct material; providing technical assistance in licensing, inspection, and enforcement cases; and bringing key issues to the attention of NRC for appropriate action.

ACMUI members possess the medical and technical skills needed to address evolving issues. The current membership is comprised of the following professionals: (a) Nuclear medicine physician; (b) nuclear cardiologist; (c) medical physicist in nuclear medicine unsealed byproduct material; (d) therapy medical physicist; (e) radiation safety officer; (f) nuclear pharmacist; (g) two radiation oncologists; (h) patients' rights advocate; (i) Food and Drug Administration representative; (j) State representative; and (k) health care administrator.

NRC is inviting nominations for the nuclear pharmacist appointment to the ACMUI. The term of the individual currently occupying this position will end September 2008. Committee members currently serve a four-year term and may be considered for reappointment to an additional term.

Nominees must be U.S. citizens and be able to devote approximately 160 hours per year to Committee business. Members who are not Federal employees are compensated for their service. In addition, non-Federal members are reimbursed travel, secretarial and correspondence expenses. Full-time Federal employees are reimbursed travel expenses only.

Security Background Check: The selected nominee will undergo a thorough security background check. Security paperwork may take the nominee several weeks to complete. Nominees will also be required to complete a financial disclosure statement to avoid conflicts of interest.

Dated at Rockville, Maryland this 26th day of March 2007.
For the U.S. Nuclear Regulatory Commission.
Andrew L. Bates,
Advisory Committee Management Officer.

[FR Doc. E7-5918 Filed 3-29-07; 8:45 am]

BILLING CODE 7590-01-P